ENVIRONMENTAL PROTECTION AGENCY

[EPA-HQ-OPP-2009-0008; FRL-8402-5]

Tribal Pesticide Program Council (TPPC); Notice of Public Meeting

AGENCY: Environmental Protection Agency (EPA).

ACTION: Notice.

SUMMARY: The Tribal Pesticide Program Council (TPPC) will hold a 2-day meeting beginning on Thursday, March 12, 2009 and ending on Friday, March 13, 2009. This notice announces the location and times for the meeting and sets forth the tentative agenda topics.

DATES: The meeting will be held on March 12, 2009, from 9 a.m. to 5 p.m. and March 13, 2009 from 9 a.m. to 5 p.m. To request accommodation of a disability, please contact the person listed under FOR FURTHER INFORMATON CONTACT, preferably at least 10 days prior to the meeting, to give EPA as much time as possible to process your request.

ADDRESSES: The meeting will be held at the Activities and Recreation Center, Ballroom A, University of California, Davis, CA (UC-Davis). For directions to, or information about, the meeting facility only, call UC-Davis at (530) 754-5306

.

FOR FURTHER INFORMATION CONTACT: Kristen Hendricks, Field and External Affairs Division, Office of Pesticide Programs (7506P), Environmental Protection Agency, 1200 Pennsylvania Ave., NW., Washington, DC 20460- 0001; telephone number: (703) 308-0308; fax number: (703) 308-1850; e-mail address: hendricks.kristen@epa.gov; or Lillian Wilmore, TPPC Administrator, 1595 Beacon St. #3, Brookline, MA 02446-4617; telephone number: (617) 232-5742; fax number: (617) 277-1656; e-mail address: NAEcology@aol.com. For information about the TPPC, please see http://www.epa.gov/oppfead1/tribes/tppc.htm.

SUPPLEMENTARY INFORMATION:

I. General Information

A. Does this Action Apply to Me?

You may be interested in this meeting if you are interested in the TPPC's information-exchange relationship with EPA regarding important issues in Indian country related to human and environmental exposure to pesticides and insight into EPA's decision-making process. All parties are invited and encouraged to participate as appropriate. Potentially affected entities may include, but are not limited to: Those persons who are or may be required to conduct testing of chemical substances under the Federal Food, Drug and Cosmetic Act (FFDCA), or the Federal Insecticide, Fungicide, and Rodenticide Act (FIFRA). Because other entities may also be interested, the Agency has not attempted to describe all the specific entities that may be affected by this action. If you have any questions regarding the applicability of this action to a particular entity, consult either person listed under FOR FURTHER INFORMATION CONTACT.

B. How Can I Get Copies of this Document and Other Related Information?

1. Docket. EPA has established a docket for this action under docket ID number EPA-HQ-OPP-2009-0008. Publicly available docket materials are available either in the electronic docket at http://www.regulations.gov, or, if only available in hard copy, at the Office of Pesticide Programs (OPP) Regulatory Public Docket in Rm. S-4400, One Potomac Yard (South Bldg.), 2777 S. Crystal Dr., Arlington, VA, 22202. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. TPPC State of the Council Report.

2. Tribal reports and presentations.

3. OPP updates.

4. Updates from EPA’s Office of Enforcement and Compliance Assurance.

5. Circuit rider programs.

6. EPA Region and Regional Sub-lead reports.

7. Report and discussion on the use of restricted-use pesticides in Indian Country.

8. Update on EPA OPPTS Strategic Planning.

9. Tribal Caucus (TPPC Only).

List of Subjects

Environmental protection, Tribes, Pesticides.

Dated: February 4, 2009.
William R. Diamond,
Director, Field External Affairs Division, Office of Pesticide Programs.

[FR Doc. E9-2761 Filed 2-10-09; 8:45 am]

BILLING CODE 6560-50-S